GOVERNMENT PRINTING OFFICE

Depository Library Council to the Public Printer; Meeting

The Depository Library Council to the Public Printer (DLC) will meet on Sunday, April 2, 2006, through Wednesday, April 5, 2006, at Renaissance Seattle Hotel, Washington.

The sessions will take place from 8 a.m. to 5 p.m. on Sunday through Tuesday, and 8 a.m. to 12 noon on Wednesday. The meeting will be held at the Renaissance Seattle Hotel, 515 Madison Street, Seattle, Washington. The purpose of this meeting is to discuss the Federal Depository Library Program. All sessions are open to the public.

The sleeping rooms available at the Renaissance Seattle Hotel will be at the Government rate of $124.00 (plus applicable state and local taxes, currently 15.6%) a night for a single or double. The Renaissance Seattle Hotel is in compliance with the requirements of Title III of the Americans With Disabilities Act and meets all Fire Safety Act regulations.

Bruce R. James,
Public Printer of the United States.

[FR Doc. E6-1808 Filed 2-9-06; 8:45 am]

BILLING CODE 1520-01-P